NATIONAL AERONAUTICS AND SPACE ADMINISTRATION

[NASA Document Number: 25-025; NASA Docket Number: NASA-2025-0036]

Name of Information Collection: NASA Assurance of Civil Rights Compliance

AGENCY: National Aeronautics and Space Administration (NASA).

ACTION: Notice of a reinstatement of an agency information collection.

SUMMARY: NASA, as part of its continuing effort to reduce paperwork and respondent burden, invites the general public and other Federal agencies to take this opportunity to comment on proposed and/or continuing information collections, as required by the Paperwork Reduction Act of 1995 (PRA).

DATES: Comments are due by September 16, 2025.

ADDRESSES: Written comments and recommendations for this information collection should be sent within 60 days of publication of this notice at http://www.regulations.gov and search for the title of this collection.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email stayce.d.hoult@nasa.gov or hq-ocio-pra-program@mail.nasa.gov.

SUPPLEMENTARY INFORMATION:

I. Abstract

The National Aeronautics and Space Administration (NASA) Office and Equal Opportunity and the Office of Procurement, in accordance with Title VI of the Civil Rights Act of 1964, Title IX of the Education Amendments of 1972, Section 504 of the Rehabilitation Act of 1973, and the Age Discrimination Act of 1975, requires grant awardees to submit an assurance of non-discrimination (NASA Form 1206) as part of their initial grant application package.

The requirement for assurance of nondiscrimination compliance associated with federally assisted programs is long standing, derives from civil rights implementing regulations, and extends to the grant recipient's sub-grantees, contractors, successors, transferees, and assignees. Grant selectees are required to submit compliance information triennially when their award period exceeds 36 consecutive months. This information collection will also be used to enable NASA to conduct post-award civil rights compliance reviews.

II. Methods of Collection

Electronic.

III. Data

Title: NASA Assurance of Civil Rights Compliance.

OMB Number: 2700-0148.

Type of Review: Extension of a previously approved information collection.

Affected Public: Business, other for-profit, or not-for-profit.

Estimated Annual Number of Activities: 250.

Estimated Number of Respondents per Activity: 1.

Annual Responses: 250.

Estimated Time per Response: 4 hours.

Estimated Total Annual Burden Hours: 1,000 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2025-13502 Filed 7-17-25; 8:45 am]

BILLING CODE 7510-13-P